FEDERAL COMMUNICATIONS COMMISSION

Sunshine Act Meeting; Open Commission Meeting Friday, November 3, 2006

October 27, 2006.

The Federal Communications Commission will hold an Open Meeting on the subjects listed below on Friday, November 3, 2006, which is scheduled to commence at 9:30 a.m. in Room TW-C305, at 445 12th Street, SW., Washington, DC.

Item No. | Bureau | Subject
1 | Media | Title: Revision of Procedures Governing Amendments to FM Table of Allotments and Changes of Community of License in the Radio Broadcast Services (MB Docket No. 05-210).
|  | Summary: The Commission will consider a Report and Order regarding changes to the process for community of license changes and the process for amendments to the FM Table of Allotments.
2 | Wireless Telecommunications | Title: In the Matter of the Effects of Communications Towers on Migratory Birds (WT Docket No. 03-187).
|  | Summary: The Commission will consider a Notice of Proposed Rulemaking on whether it should adopt certain measures to mitigate migratory bird collisions with communications towers.
3 | Wireline Competition | Title: United Power Line Council's Petition for Declaratory Ruling Regarding the Classification of Broadband over Power Line Internet Access Service as an Information Service (WC Docket No. 06-10).
|  | Summary: The Commission will consider a Memorandum Opinion and Order concerning the classification of broadband over power line Internet access service.
4 | Wireline Competition | Title: AT&T Inc. and BellSouth Corporation Application for Transfer of Control (WC Docket No. 06-74).
|  | Summary: The Commission will consider a Memorandum Opinion and Order regarding the transfer of control application of AT&T and BellSouth.

Open captioning will be provided for this event. Other reasonable accommodations for people with disabilities are available upon request. Include a description of the accommodation you will need including as much detail as you can. Also include a way we can contact you if we need more information. Make your request as early as possible; please allow at least 5 days advance notice. Last minute requests will be accepted, but may be impossible to fill. Send an e-mail to: fcc504@fcc.gov or call the Consumer & Governmental Affairs Bureau at 202-418-0530 (voice), 202-418-0432 (tty).

Additional information concerning this meeting may be obtained from Audrey Spivack or David Fiske, Office of Media Relations, (202) 418-0500; TTY 1-888-835-5322. Audio/Video coverage of the meeting will be broadcast live with open captioning over the Internet from the FCC's Audio/Video Events Web page at www.fcc.gov/realaudio.

For a fee this meeting can be viewed live over George Mason University's Capitol Connection. The Capitol Connection also will carry the meeting live via the Internet. To purchase these services call (703) 993-3100 or go to www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by e-mail at FCC@BCPIWEB.com.

Federal Communications Commission.
Marlene H. Dortch,
Secretary.

[FR Doc. 06-9023 Filed 10-30-06; 11:57 am]

BILLING CODE 6712-01-P